DEPARTMENT OF COMMERCE

National Oceanic and Atmospheric Administration

[I.D. 072606B]

Caribbean Fishery Management Council; Public Meeting

AGENCY: National Marine Fisheries Service (NMFS), National Oceanic and Atmospheric Administration (NOAA), Commerce.

ACTION: Notice of public meetings.

SUMMARY: The Caribbean Fishery Management Council (Council) and its Administrative Committee will hold meetings.

DATES: The meetings will be held on August 15-16, 2006. The Council will convene on Tuesday, August 15, 2006, from 9 a.m. to 5 p.m., and the Administrative Committee will meet from 5:15 p.m. to 6 p.m., on that same day. The Council will reconvene on Wednesday, August16, 2006, from 9 a.m. to 5 p.m., approximately.

ADDRESSES: The meetings will be held at The Buccaneer Hotel, 5007 Estate Shoys, Lt. 7, St. Croix, Christiansted, U.S.V.I.

FOR FURTHER INFORMATION CONTACT: Caribbean Fishery Management Council, 268 Munoz Rivera Avenue, Suite 1108, San Juan, Puerto Rico 00918-1920, telephone: (787) 766-5926.

SUPPLEMENTARY INFORMATION: The Council will hold its 122nd regular public meeting to discuss the items contained in the following agenda:

August 15, 2006

9 a.m. - 5 p.m.

Call to Order

Election of Officials

Adoption of Agenda

Consideration of 121st Council Meeting Verbatim Transcription

Executive Director's Report

Update on NOAA/NOS Integrated Coral Reef Ecosystem Mapping Monitoring Studies in the U.S. Caribbean - Mark Monaco

Marine Protected Areas (MPAs) Puerto Rico - Maria del Mar Lopez

Update on Research: Trap Impacts on Coral Reefs and Associated Habitats in the USVI and Puerto Rico - Ron Hill

International Commission for the Conservation of Atlantic Tunas (ICCAT) - Bill Hogarth

Billfish Strategies P.R. Update - Jamitza Rodriguez

5:15 p.m. - 6 p.m.

Administrative Committee Meeting

Advisory Panel (AP)/Scientific and Statistical Committee/Habitat AP Membership

Budget 2006, 2007

Other Business

August 16, 2006

9 a.m. - 5 p.m.

Bycatch Strategies - Milagros Cartagena

Marine Recreational Fishery Statistics Survey (MRFSS) Report Puerto Rico - Zulena Cortes

Puerto Rico Fisheries from a Global Perspective - Manual Valdes-Pizzini

Queen Conch Manual Proposal - Monica Valle

Enforcement Reports

Puerto Rico

U.S. Virgin Islands

NOAA

U.S. Coast Guard

Administrative Committee Recommendations (August 15, 2006 meeting)

Meetings Attended by Council Members and Staff

Other Business

Next Council Meeting

The meetings are open to the public, and will be conducted in English. Fishers and other interested persons are invited to attend and participate with oral or written statements regarding agenda issues.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. For more information or request for sign language interpretation and/other auxiliary aids, please contact Mr. Miguel A. Rolon, Executive Director, Caribbean Fishery Management Council, 268 Munoz Rivera Avenue, Suite 1108, San Juan, Puerto Rico 00918-2577, telephone: (787) 766-5926, at least 5 days prior to the meeting date.

Dated: July 26, 2006.
Tracey L. Thompson,
Acting Director, Office of Sustainable Fisheries, National Marine Fisheries Service.

[FR Doc. E6-12231 Filed 7-28-06; 8:45 am]

BILLING CODE 3510-22-S